DEPARTMENT OF HOMELAND SECURITY

Coast Guard

[USCG-2003-14814]

Great Lakes Pilotage Advisory Committee; Meeting Cancellation

AGENCY: Coast Guard, DHS.

ACTION: Notice of meeting cancellation.

SUMMARY: The Great Lakes Pilotage Advisory Committee (GLPAC) meeting scheduled for May 5 and 6, 2003, and announced in the Federal Register on April 3, 2003 (68 FR 16299), has been cancelled. A notice of meeting will be published in the Federal Register when the meeting is rescheduled.

FOR FURTHER INFORMATION CONTACT: Margie Hegy, Executive Director of GLPAC, telephone 202-267-0415, fax 202-267-4700 or e-mail: Mhegy@comdt.uscg.mil.

Dated: April 28, 2003.
L.L. Hereth,
Rear Admiral, U.S. Coast Guard, Acting Assistant Commandant for Marine Safety, Security and Environmental Protection.

[FR Doc. 03-10943 Filed 5-2-03; 8:45 am]

BILLING CODE 4910-15-P